DEPARTMENT OF TRANSPORTATION

Federal Aviation Administration

14 CFR Part 71

[Docket No. FAA-2014-0104; Airspace Docket No. 13-AEA-4]

RIN 2120-AA66

Amendment and Revocation of Jet Routes; Northeast United States

AGENCY: Federal Aviation Administration (FAA), DOT.

ACTION: Final rule.

SUMMARY: This action modifies jet routes J-64 and J-80, and removes jet route J-77, in the northeastern United States. The FAA is taking this action to remove segments that are receiving minimal to no usage due to other more efficient routes in the area. This action eliminates the unneeded route segments, reduces aeronautical chart clutter and improves chart readability.

DATES: Effective date 0901 UTC, September 18, 2014. The Director of the Federal Register approves this incorporation by reference action under 1 CFR part 51, subject to the annual revision of FAA Order 7400.9 and publication of conforming amendments.

ADDRESSES: FAA Order 7400.9X, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and ATC Procedures Group, Federal Aviation Administration, 800 Independence Avenue SW., Washington, DC, 20591; telephone: 202-267-8783.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

History

The FAA published in the Federal Register a notice of proposed rulemaking (NPRM) to amend jet routes J-64 and J-80, and cancel jet route J-77, in the northeastern United States (79 FR 13948, March 12, 2014). Interested parties were invited to participate in this rulemaking effort by submitting written comments on the proposal. One comment was received expressing support for the proposal.

The Rule

This action amends Title 14, Code of Federal Regulations (14 CFR) part 71 by modifying two jet routes and cancelling one jet route in the northeastern United States to remove inefficient or minimally used route segments. This action makes the following modifications to the routes:

J-64: J-64 extends between Los Angeles, CA, and Robbinsville, NJ. This route now terminates at the intersection of the Ravine, PA, 102° radial and the Lancaster, PA, 044° radial, instead of Robbinsville, NJ. This new termination point is the charted SARAA fix, which is approximately 65 nautical miles northwest of Robbinsville, NJ.

J-77: J-77 is removed. Numerous other routes are available for navigation between the Baltimore, MD, area and Boston, MA.

J-80: J-80 extends between Oakland, CA, and Bangor, ME. This route now terminates at Bellaire, OH, eliminating the segments between Bellaire, OH, and Bangor, ME. RNAV route Q-480 and jet route J-581 provide alternative routing between Bellaire, OH, and Bangor, ME.

Except for editorial changes, this rule is the same as published in the NPRM.

Jet routes are published in paragraph 2004 of FAA Order 7400.9X dated August 7, 2013, and effective September 15, 2013, which is incorporated by reference in 14 CFR 71.1. The jet routes and VOR Federal airways listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority because it modifies the route structure as required to preserve the safe and efficient flow of air traffic within the National Airspace System.

Environmental Review

The FAA has determined that this action qualifies for categorical exclusion under the National Environmental Policy Act in accordance with FAA Order 1050.1E, “Environmental Impacts: Policies and Procedures,” paragraph 311a. This action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 2004—Jet Routes

* * * * *

J-64 [Amended]

From Los Angeles, CA, via INT Los Angeles 083° and Hector, CA, 226° radials; Hector; Peach Springs, AZ; Tuba City, AZ; Rattlesnake, NM; Pueblo, CO; Hill City, KS; Pawnee City, NE; Lamoni, IA; Bradford, IL; via the INT of the Bradford 089° and the Fort Wayne, IN, 280° radials; Fort Wayne; Ellwood City, PA; Ravine, PA; to INT Ravine 102° and Lancaster, PA, 044° radials.

J-77 (Removed)

J-80 (Amended)

From Oakland, CA; Manteca, CA; Coaldale, NV; Wilson Creek, NV; Milford, UT; Grand Junction, CO; Red Table, CO; Falcon, CO; Goodland, KS; Hill City, KS; Kansas City, MO; Spinner, IL; Brickyard, IN; to Bellaire, OH.

Issued in Washington, DC, on August 6, 2014.
Gary A. Norek,
Manager, Airspace Policy and Regulations Group.

[FR Doc. 2014-19043 Filed 8-13-14; 8:45 am]

BILLING CODE 4910-13-P